DEPARTMENT OF COMMERCE

International Trade Administration

Agency Information Collection Activities; Submission for OMB Review; Comment Request; Request for Duty-Free Entry of Scientific Instruments or Apparatus

The Department of Commerce will submit to the Office of Management and Budget (OMB) for clearance the following proposal for collection of information under the provisions of the Paperwork Reduction Act (44 U.S.C. Chapter 35).

Agency: International Trade Administration.

Title: Request for Duty-Free Entry of Scientific Instruments or Apparatus.

OMB Control Number: 0625-0037.

Form Number(s): ITA-338P.

Type of Request: Regular submission.

Number of Respondents: 65.

Average Hours per Response: 2.

Burden Hours: 130.

Needs and Uses: The Departments of Commerce and Homeland Security (“DHS”) are required to determine whether non-profit institutions established for scientific or educational purposes are entitled to duty-free entry for scientific instruments that the institutions import under the Florence Agreement. Form ITA-338P enables: (1) DHS to determine whether the statutory eligibility requirements for the institution and the instrument are fulfilled, and (2) Commerce to make a comparison and finding as to the scientific equivalency of comparable instruments being manufactured in the United States. Without the collection of the information, DHS and Commerce would be unable to carry out the responsibilities assigned by law.

Affected Public: Federal, state or local government; not-for-profit institutions.

Frequency: Annul and periodic.

Respondent's Obligation: Required to obtain or retain a benefit, voluntary.

Legal Authority: 19 U.S.C. 1202; 15 CFR 301.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0037.

Sheleen Dumas,
Department PRA Clearance Officer, Office of the Chief Information Officer, Commerce Department.

[FR Doc. 2020-07592 Filed 4-9-20; 8:45 am]

BILLING CODE 3510-DS-P